NATIONAL AERONAUTICS AND SPACE ADMINISTRATION

[Notice: 12-047]

NASA Advisory Council; Aeronautics Committee; Meeting.

AGENCY: National Aeronautics and Space Administration.

ACTION: Notice of meeting.

SUMMARY: In accordance with the Federal Advisory Committee Act, Public Law 92-463, as amended, the National Aeronautics and Space Administration announces a meeting of the Aeronautics Committee of the NASA Advisory Council (NAC). The meeting will be held for the purpose of soliciting, from the aeronautics community and other persons, research and technical information relevant to program planning.

DATE: Tuesday, July 24, 2012, 8 a.m. to 3 p.m. local time.

ADDRESSES: NASA Goddard Space Flight Center (GSFC), Building 34, Room 120B, 8800 Greenbelt Road, Greenbelt, MD 20771-0001. (Note that visitors will first need to go to the GSFC Main Gate to gain access.)

FOR FURTHER INFORMATION CONTACT: Ms. Susan L. Minor, Executive Secretary for the Aeronautics Committee, National Aeronautics and Space Administration Headquarters, Washington, DC 20546, (202) 358-0566, or susan.l.minor@nasa.gov.

SUPPLEMENTARY INFORMATION: The agenda for the meeting includes the following topics:

• Unmanned Aircraft Systems (UAS) Subcommittee Outbrief

• National Aeronautics Research Agenda

• Next-Generation Air Transportation System Research and Development Activities

• Non-traditional International Partner engagement/International Forum for Aviation Research update

• NASA Aeronautics Research Mission Directorate Education and Public Outreach activities

The meeting will be open to the public up to the capacity of the room. Any person interested in participating in the meeting by Webex and telephone should contact Ms. Susan L. Minor at (202) 358-0566 for the web link, toll-free number and passcode. It is imperative that these meetings be held on this date to accommodate the scheduling priorities of the key participants.

Visitors will need to show valid picture identification such as a driver's license to enter into GSFC and must state that they are attending the NAC Aeronautics Committee meeting in Building 34. All U.S. citizens desiring to attend the committee meeting at NASA GSFC must provide their full name, company affiliation (if applicable), to the GSFC Protective Services Division no later than the close of business on July 16, 2012. Public attendees with U.S. citizenship must provide to NASA the following information: Full name; gender; date/place of birth; social security number employer/affiliation information (name of institution, title/position, address, telephone, email address); and the title/position of attendee at least 4 working days in advance of the meeting to Deborah Brasel via email at Deborah.A.Brasel@nasa.gov or by telephone at 301-286-6876. Public attendees that are Foreign Nationals must provide to NASA the following information: Full name; gender; date/place of birth; citizenship; social security number; green card information (resident alien number, expiration date); visa information (number, type, expiration date); passport information (number, country of issue, expiration date); employer/affiliation information (name of institution, title/position, address, country of employer, telephone, email address); and the title/position of attendee no less than 8 working days (July 11, 2012) prior to the meeting to Deborah Brasel via email at Deborah.A.Brasel@nasa.gov or by telephone at 301-286-6876. If the above information is not received by the noted dates, attendees should expect a minimum delay of two (2) hours. All visitors to this meeting will report to the GSFC Main Gate where they will be processed through security prior to entering GSFC. Public attendees will be required to sign a register and to comply with NASA security requirements, including the presentation of a valid State or Federal issued picture ID or passport, before receiving an access badge. For security questions on the day of the meeting, please call Debbie Brasel at 301-286-6876 or email Deborah.A.Brasel@nasa.gov.

Patricia D. Rausch,
Advisory Committee Management Officer, National Aeronautics and Space Administration.

[FR Doc. 2012-15549 Filed 6-25-12; 8:45 am]

BILLING CODE 7510-13-P